DEPARTMENT OF TRANSPORTATION

Federal Aviation Administration

Notice of Intent to Request Renewal From the Office of Management and Budget (OMB) of One Current Public Collection of Information

AGENCY: Federal Aviation Administration (FAA), DoT

ACTION: Notice.

SUMMARY: In compliance with the Paperwork Reduction Act (44 U.S.C. 3501 et seq.), the FAA invites public comment on one currently approved public information collection which will be submitted to OMB for renewal.

DATES: Comments must be received on or before June 21, 2004.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collection of information in order to evaluate the necessity of the collection, the accuracy of the agency's estimate of the burden, the quality, utility, and clarity of the information to be collected, and possible ways to minimize the burden of the collection in preparation for submission to renew the clearance of the following information collection.

1. 2120-0668, National Airspace System (NAS) Data Release Request. The information collected is needed to evaluate the validity of a user's request for NAS data from FAA systems and equipment. This data collection is the genesis for granting approval to release filtered NAS data to vendors. The information provided by respondents sets the criteria for the FAA Data Release Request Committee (DRRC) to approve or reject individual requests for NAS data. The current estimated annual reporting burden is 27 hours.

Issued in Washington, DC, on April 15, 2004.
Judith D. Street,
FAA Information Collection Clearance Officer, APF-100.

[FR Doc. 04-9078 Filed 4-20-04; 8:45 am]

BILLING CODE 4910-13-M